DEPARTMENT OF TRANSPORTATION

Federal Aviation Administration

14 CFR Part 39

[Docket No. FAA-2012-0940; Directorate Identifier 2012-NE-26-AD]

RIN 2120-AA64

Airworthiness Directives; Turbomeca S.A. Turboshaft Engines

AGENCY: Federal Aviation Administration (FAA), DOT.

ACTION: Notice of proposed rulemaking (NPRM).

SUMMARY: We propose to adopt a new airworthiness directive (AD) for Turbomeca S.A. Arriel 2D turboshaft engines. This proposed AD was prompted by a low fuel pressure event caused by a deterioration and a loss of the low-pressure drive function within the hydro-mechanical metering unit (HMU). This proposed AD would require replacing the HMU at a reduced life. We are proposing this AD to prevent an uncommanded in-flight shutdown of the engine, and possible loss of the helicopter.

DATES: We must receive comments on this proposed AD by December 10, 2012.

ADDRESSES: You may send comments by any of the following methods:

• Federal eRulemaking Portal: Go to http://www.regulations.gov and follow the instructions for sending your comments electronically.

• Mail: Docket Management Facility, U.S. Department of Transportation, 1200 New Jersey Avenue SE., West Building Ground Floor, Room W12-140, Washington, DC 20590-0001.

• Hand Delivery: Deliver to Mail address above between 9 a.m. and 5 p.m., Monday through Friday, except Federal holidays.

• Fax: 202-493-2251.

For service information identified in this AD, contact Turbomeca, 40220 Tarnos, France; phone: 33 (0)5 59 74 40 00; telex: 570 042; fax: 33 (0)5 59 74 45 15. You may review copies of the referenced service information at the FAA, Engine & Propeller Directorate, 12 New England Executive Park, Burlington, MA. For information on the availability of this material at the FAA, call 781-238-7125.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (phone: 800-647-5527) is the same as the Mail address provided in the ADDRESSES section. Comments will be available in the AD docket shortly after receipt.

FOR FURTHER INFORMATION CONTACT: Frederick Zink, Aerospace Engineer, Engine Certification Office, FAA, Engine & Propeller Directorate, 12 New England Executive Park, Burlington, MA 01803; email: frederick.zink@faa.gov; phone: 781-238-7779; fax: 781-238-7199.

SUPPLEMENTARY INFORMATION:

Comments Invited

We invite you to send any written relevant data, views, or arguments about this proposed AD. Send your comments to an address listed under the ADDRESSES section. Include “Docket No. FAA-2012-0940; Directorate Identifier 2012-NE-26-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact with FAA personnel concerning this proposed AD. Using the search function of the Web site, anyone can find and read the comments in any of our dockets, including, if provided, the name of the individual who sent the comment (or signed the comment on behalf of an association, business, labor union, etc.). You may review the DOT's complete Privacy Act Statement in the Federal Register published on April 11, 2000 (65 FR 19477-78).

Discussion

The European Aviation Safety Agency (EASA), which is the Technical Agent for the Member States of the European Community, has issued EASA AD 2012-0141, dated July 31, 2012 (referred to after this as “the MCAI”), to correct an unsafe condition for the specified products. The MCAI states:

During an Arriel 2D endurance test, the illumination of the low fuel pressure warning light was observed. The investigation of the high pressure/low pressure (HP/LP) pump assembly within the hydro-mechanical metering unit (HMU), removed following this occurrence, revealed a deterioration and a loss of the LP pump drive function.

This condition, if not detected and corrected, could lead to an uncommanded engine in-flight shut down.

We are issuing this proposed AD to prevent an uncommanded in-flight shutdown of the engine, and possible loss of the helicopter. You may obtain further information by examining the MCAI in the AD docket.

Relevant Service Information

Turbomeca S.A. has issued Alert Mandatory Service Bulletin No. A292 73 2847, Version A, dated May 29, 2012. The actions described in this service information are intended to correct the unsafe condition identified in the MCAI.

FAA's Determination and Requirements of This Proposed AD

This product has been approved by the aviation authority of France and is approved for operation in the United States. Pursuant to our bilateral agreement with the European Community, EASA has notified us of the unsafe condition described in the MCAI referenced above. We are proposing this AD because we evaluated all information provided by EASA and determined the unsafe condition exists and is likely to exist or develop on other products of the same type design.

This proposed AD would require replacing the HMU before the HMU exceeds 800 operating hours since new; or within 800 operating hours since last replacement of the low-pressure pump spindle wheel assembly, high-pressure pump complete sleeve, bearings/pinions (matched assembly), and sleeve assembly.

Costs of Compliance

Based on the service information, we estimate that this proposed AD would affect about 27 engines installed on helicopters of U.S. registry. We also estimate that it would take about 0.7 work-hour per engine to comply with this proposed AD. The average labor rate is $85 per work-hour. Required parts would cost about $14,400 per engine. Based on these figures, we estimate the cost of the proposed AD on U.S. operators to be $390,407.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Turbomeca S.A.: Docket No. FAA-2012-0940; Directorate Identifier 2012-NE-26-AD.

(a) Comments Due Date

We must receive comments by December 10, 2012.

(b) Affected Airworthiness Directives (ADs)

None.

(c) Applicability

This AD applies to all Turbomeca S.A. Arriel 2D turboshaft engines.

(d) Reason

This AD was prompted by a low fuel pressure event caused by a deterioration and a loss of the low-pressure drive function within the hydro-mechanical metering unit (HMU). We are issuing this AD to prevent an uncommanded in-flight shutdown of the engine, and possible loss of the helicopter.

(e) Actions and Compliance

Unless already done, replace the HMU with an HMU eligible for installation:

(1) Before the HMU exceeds 800 operating hours since new; or

(2) Within 800 operating hours since last replacement of the low-pressure pump spindle wheel assembly, high-pressure pump complete sleeve, bearings/pinions (matched assembly), and sleeve assembly.

(f) Installation Prohibition

After the effective date of this AD, do not install any HMU onto any engine, or install any engine onto any helicopter, unless in compliance with the requirements of paragraph (e) of this AD.

(g) Alternative Methods of Compliance (AMOCs)

The Manager, Engine Certification Office, may approve AMOCs for this AD. Use the procedures found in 14 CFR 39.19 to make your request.

(h) Related Information

(1) For more information about this AD, contact Frederick Zink, Aerospace Engineer, Engine Certification Office, FAA, Engine & Propeller Directorate, 12 New England Executive Park, Burlington, MA 01803; email: frederick.zink@faa.gov; phone: 781-238-7779; fax: 781-238-7199.

(2) Refer to European Aviation Safety Agency AD No. 2012-0141, dated July 31, 2012, and Turbomeca S.A. Alert Mandatory Service Bulletin No. A292 73 2847, Version A, dated May 29, 2012, for related information.

(3) For service information identified in this AD, contact Turbomeca, 40220 Tarnos, France; phone: 33 (0)5 59 74 40 00; telex: 570 042; fax: 33 (0)5 59 74 45 15. You may review copies of the referenced service information at the FAA, Engine & Propeller Directorate, 12 New England Executive Park, Burlington, MA. For information on the availability of this material at the FAA, call 781-238-7125.

(i) Material Incorporated by Reference

None.

Issued in Burlington, Massachusetts, on October 1, 2012.
Robert J. Ganley,
Acting Manager, Engine & Propeller Directorate, Aircraft Certification Service.

[FR Doc. 2012-24721 Filed 10-5-12; 8:45 am]

BILLING CODE 4910-13-P